DEPARTMENT OF COMMERCE

Foreign-Trade Zones Board

[Order No. 1861]

Designation of New Grantee; Foreign Trade Zone 66, Wilmington, NC, and Foreign-Trade Zone 67, Morehead City, NC

Pursuant to its authority under the Foreign-Trade Zones Act of June 18, 1934, as amended (19 U.S.C. 81a-81u), and the Foreign-Trade Zones Board Regulations (15 CFR part 400), the Foreign-Trade Zones Board (the Board) adopts the following Order:

The Foreign-Trade Zones (FTZ) Board (the Board) has considered the applications (filed 8/6/12) submitted by the North Carolina Department of Commerce, grantee of FTZ 66, Wilmington, North Carolina, and FTZ 67, Morehead City, North Carolina, requesting reissuance of the grants of authority for said zones to the North Carolina Department of Transportation, which has accepted such reissuance subject to approval by the FTZ Board. Upon review, the Board finds that the requirements of the FTZ Act and the Board's regulations are satisfied, and that the proposal is in the public interest.

Therefore, the Board approves the applications and recognizes the North Carolina Department of Transportation as the new grantee for Foreign-Trade Zone 66 and Foreign-Trade Zone 67, subject to the FTZ Act and the Board's regulations, including Section 400.13.

Signed at Washington, DC, this 18th day of October 2012.
Paul Piquado,
Assistant Secretary of Commerce for Import Administration, Alternate Chairman, Foreign-Trade Zones Board.
ATTEST:
Elizabeth Whiteman,
Acting Executive Secretary.

[FR Doc. 2012-26822 Filed 10-31-12; 8:45 am]

BILLING CODE 3510-DS-P